DEPARTMENT OF COMMERCE

Census Bureau

National Advisory Committee

AGENCY: Census Bureau, Department of Commerce.

ACTION: Notice of public virtual meeting.

SUMMARY: The Census Bureau is giving notice of a virtual meeting of the National Advisory Committee (NAC). This special session will provide an opportunity for the NAC to submit additional recommendations related to the 2020 Demographic and Housing Characteristics File (DHC) prior to the October 2022 Data Stewardship Executive Policy Committee (DSEP) meeting where the final privacy-loss budget and parameter settings will be determined for the 2020 DHC. Additionally, the Census Bureau SMEs will present metrics from the Round II 2010 Demonstration Data Product and summarize what they tell us about data accuracy and change from previous demonstration products. There will also be a presentation on the simulated re-identification attack on the Round II 2010 Demonstration Data Product. Last-minute changes to the schedule are possible, which could prevent giving advance public notice of schedule adjustments.

DATES: The virtual meeting will be held on:

• Friday, September 23, 2022, from 1 p.m. to 5 p.m. ET.

ADDRESSES: Please visit the Census Advisory Committees website at https://www.census.gov/about/cac/nac/meetings/2022-09-special-session.html for the NAC meeting information, including the agenda, and how to join the meeting.

FOR FURTHER INFORMATION CONTACT: Shana Banks, Advisory Committee Branch Chief, Office of Program, Performance and Stakeholder Integration (PPSI), shana.j.banks@census.gov, Department of Commerce, U.S. Census Bureau, telephone 301-763-3815. For TTY callers, please use the Federal Relay Service at 1-800-877-8339.

SUPPLEMENTARY INFORMATION: The NAC provides technical expertise to address Census Bureau program needs and objectives. The members of the NAC are appointed by the Director of the Census Bureau. The NAC has been established in accordance with the Federal Advisory Committee Act (Title 5, United States Code, appendix 2, section 10).

All meetings are open to the public. Public comments will be accepted via email and should be addressed to shana.j.banks@census.gov, (subject line “NAC Differential Privacy Virtual Meeting Public Comment”). A brief period will be set aside during the meeting to read public comments received in advance of noon ET September 23, 2022. Any public comment received after the noon deadline will be added to the other public comments posted on the NAC website listed in the ADDRESSES section.

Robert L. Santos, Director, Census Bureau, approved the publication of this Notice in the Federal Register.

Dated: August 29, 2022.
Shannon Wink,
Program Analyst, Policy Coordination Office, U.S. Census Bureau.

[FR Doc. 2022-18943 Filed 8-31-22; 8:45 am]

BILLING CODE 3510-07-P